NUCLEAR REGULATORY COMMISSION

Advisory Committee on Reactor Safeguards and Advisory

Committee on Nuclear Waste Joint Subcommittee Meeting; Notice of Meeting

The Advisory Committee on Reactor Safeguards (ACRS) and the Advisory Committee on Nuclear Waste (ACNW) Joint Subcommittee will hold a meeting on May 4, 2000, Room T-2B3, 11545 Rockville Pike, Rockville, Maryland.

The meeting will be open to public attendance.

The agenda for the subject meeting shall be as follows:

Thursday, May 4, 2000—8:30 a.m. until the conclusion of business

The ACRS and ACNW Joint Subcommittee will discuss the development of risk-informed regulation in the Office of Nuclear Material Safety and Safeguards, including risk-informing fuel cycle programs, integrated safety assessments, byproduct material risk analysis, dry cask storage risk analysis, the results of a public workshop on the use of risk information in regulating the use of nuclear materials, and related matters. The purpose of this meeting is to gather information, analyze relevant issues and facts, and formulate proposed positions and actions, as appropriate, for deliberation by the ACRS and ACNW full Committees.

Oral statements may be presented by members of the public with the concurrence of the Subcommittee Chairman; written statements will be accepted and made available to the ACRS and ACNW full Committees. Electronic recordings will be permitted only during those portions of the meeting that are open to the public, and questions may be asked only by members of the Subcommittee, its consultants, and staff. Persons desiring to make oral statements should notify the cognizant ACRS/ACNW staff members named below five days prior to the meeting, if possible, so that appropriate arrangements can be made.

During the initial portion of the meeting, the Subcommittee, along with any consultants who may be present, may exchange preliminary views regarding matters to be considered during the balance of the meeting.

The Subcommittee will then hear presentations by and hold discussions with representatives of the NRC staff, its consultants, and other interested persons regarding these matters.

Further information regarding topics to be discussed, whether the meeting has been canceled or rescheduled, the Subcommittee's ruling on requests for the opportunity to present oral statements and the time allotted therefor can be obtained by contacting the cognizant senior fellow, John N. Sorensen (telephone 301/415-7372) between 8:00 a.m. and 5:45 p.m. (EDT) or by e-mail JNS@NRC.gov or senior staff engineer, Michael T. Markley (telephone: 301-415-6885). Persons planning to attend this meeting are urged to contact the above-named individuals one to two working days prior to the meeting to be advised of any potential changes in the proposed agenda, etc., that may have occurred.

Dated: April 11, 2000.
Sam Duraiswamy,
Acting Associate Director for Technical Support, ACRS/ACNW.

[FR Doc. 00-9621 Filed 4-17-00; 8:45 am]

BILLING CODE 7590-01-P